DEPARTMENT OF ENERGY

Federal Energy Regulatory Commission

Combined Notice of Filings #2

Take notice that the Commission received the following exempt wholesale generator filings:

Docket Numbers: EG26-143-000.

Applicants: Atlas BESS IV, LLC.

Description: Atlas BESS IV, LLC submits Notice of Self-Certification of Exempt Wholesale Generator Status.

Filed Date: 1/29/26.

Accession Number: 20260129-5410.

Comment Date: 5 p.m. ET 2/19/26.

Take notice that the Commission received the following electric rate filings:

Docket Numbers: ER25-3172-001.

Applicants: Genesee Solar Energy, LLC.

Description: Compliance filing: Genesee Solar Energy Change in Status to be effective 1/30/2026.

Filed Date: 1/29/26.

Accession Number: 20260129-5443.

Comment Date: 5 p.m. ET 2/19/26.

Docket Numbers: ER26-1156-000.

Applicants: AEP Texas Inc.

Description: 205(d) Rate Filing: AEPTX-Val Vista Grid System Upgrade Agreement to be effective 1/6/2026.

Filed Date: 1/29/26.

Accession Number: 20260129-5165.

Comment Date: 5 p.m. ET 2/19/26.

Docket Numbers: ER26-1157-000.

Applicants: Midcontinent Independent System Operator, Inc.

Description: 205(d) Rate Filing: 2026-01-29_SA 4666 ITCTransmission-Tuscola II Energy Storage GIA (S1059) to be effective 1/20/2026.

Filed Date: 1/29/26.

Accession Number: 20260129-5192.

Comment Date: 5 p.m. ET 2/19/26.

Docket Numbers: ER26-1158-000.

Applicants: The Connecticut Light and Power Company.

Description: 205(d) Rate Filing: INDUS Realty, LLC—Viability Assessment Study Agreement to be effective 1/30/2026.

Filed Date: 1/29/26.

Accession Number: 20260129-5231.

Comment Date: 5 p.m. ET 2/19/26.

Docket Numbers: ER26-1159-000.

Applicants: 26SB 8me LLC.

Description: 205(d) Rate Filing: 26SB 8me LLC MBR Tariff to be effective 4/1/2026.

Filed Date: 1/29/26.

Accession Number: 20260129-5273.

Comment Date: 5 p.m. ET 2/19/26.

Docket Numbers: ER26-1160-000.

Applicants: Michigan Electric Transmission Company, LLC.

Description: Tariff Amendment: Notice of Cancellation to be effective 1/31/2026.

Filed Date: 1/29/26.

Accession Number: 20260129-5309.

Comment Date: 5 p.m. ET 2/19/26.

Docket Numbers: ER26-1161-000.

Applicants: Power Authority of the State of New York, New York Independent System Operator, Inc.

Description: 205(d) Rate Filing: New York Independent System Operator, Inc. submits tariff filing per 35.13(a)(2)(iii: NYISO-NYPA Joint 205: Amended LGIA Gateway Solar Energy Center SA2739 (CEII) to be effective 1/14/2026.

Filed Date: 1/29/26.

Accession Number: 20260129-5369.

Comment Date: 5 p.m. ET 2/19/26.

Docket Numbers: ER26-1162-000.

Applicants: AEP Texas Inc.

Description: 205(d) Rate Filing: AEPTX-Oxy Renewable Energy Generation Interconnection Agreement to be effective 12/31/2025.

Filed Date: 1/29/26.

Accession Number: 20260129-5376.

Comment Date: 5 p.m. ET 2/19/26.

Docket Numbers: ER26-1163-000.

Applicants: Alabama Power Company, Georgia Power Company, Mississippi Power Company.

Description: 205(d) Rate Filing: Alabama Power Company submits tariff filing per 35.13(a)(2)(iii: Cooperative Energy NITSA Amendment Filing (removing Columbia South DP) to be effective 1/1/2026.

Filed Date: 1/29/26.

Accession Number: 20260129-5383.

Comment Date: 5 p.m. ET 2/19/26.

Docket Numbers: ER26-1164-000.

Applicants: Bolt Energy Marketing, LLC.

Description: 205(d) Rate Filing: Market-Based Rate Tariff Revisions to be effective 1/30/2026.

Filed Date: 1/29/26.

Accession Number: 20260129-5409.

Comment Date: 5 p.m. ET 2/19/26.

Docket Numbers: ER26-1165-000.

Applicants: Columbia Energy LLC.

Description: 205(d) Rate Filing: Market-Based Rate Tariff Revisions to be effective 1/30/2026.

Filed Date: 1/29/26.

Accession Number: 20260129-5412.

Comment Date: 5 p.m. ET 2/19/26.

Docket Numbers: ER26-1166-000.

Applicants: Public Service Company of Colorado.

Description: 205(d) Rate Filing: 2025-01-29 Resubmission of PSCo LGIP to be effective 1/6/2026.

Filed Date: 1/29/26.

Accession Number: 20260129-5414.

Comment Date: 5 p.m. ET 2/19/26.

Docket Numbers: ER26-1167-000.

Applicants: LS Power Marketing, LLC.

Description: 205(d) Rate Filing: Market-Based Rate Tariff Revisions to be effective 1/30/2026.

Filed Date: 1/29/26.

Accession Number: 20260129-5415.

Comment Date: 5 p.m. ET 2/19/26.

Docket Numbers: ER26-1168-000.

Applicants: REV Energy Marketing, LLC.

Description: 205(d) Rate Filing: Market-Based Rate Tariff Revisions to be effective 1/30/2026.

Filed Date: 1/29/26.

Accession Number: 20260129-5419.

Comment Date: 5 p.m. ET 2/19/26.

Docket Numbers: ER26-1169-000.

Applicants: Basin Electric Power Cooperative, Southwest Power Pool, Inc.

Description: 205(d) Rate Filing: Basin Electric Power Cooperative submits tariff filing per 35.13(a)(2)(iii: Basin Electric Power Cooperative Formula Rate Filing (Stegall DC Tie) to be effective 4/1/2026.

Filed Date: 1/29/26.

Accession Number: 20260129-5421.

Comment Date: 5 p.m. ET 2/19/26.

Docket Numbers: ER26-1170-000.

Applicants: Midcontinent Independent System Operator, Inc., Union Electric Company.

Description: 205(d) Rate Filing: Union Electric Company submits tariff filing per 35.13(a)(2)(iii: 2026-01-29_SA 2037 Ameren-CEC 6th Rev WDS Agreement to be effective 6/1/2026.

Filed Date: 1/29/26.

Accession Number: 20260129-5447.

Comment Date: 5 p.m. ET 2/19/26.

Take notice that the Commission received the following electric securities filings:

Docket Numbers: ES26-27-000.

Applicants: Consumers Energy Company.

Description: Application Under Section 204 of the Federal Power Act for Authorization to Issue Securities of Consumers Energy Company.

Filed Date: 1/28/26.

Accession Number: 20260128-5324.

Comment Date: 5 p.m. ET 2/18/26.

Take notice that the Commission received the following foreign utility company status filings:

Docket Numbers: FC26-2-000.

Applicants: Hexa India Companies.

Description: Hexa India Companies submit Notice of Self-Certification of Foreign Utility Company Status.

Filed Date: 1/29/26.

Accession Number: 20260129-5164.

Comment Date: 5 p.m. ET 2/19/26.

Docket Numbers: FC26-3-000.

Applicants: Hexa Japan Companies.

Description: Hexa Japan Companies submit Notice of Self-Certification of Foreign Utility Company Status.

Filed Date: 1/29/26.

Accession Number: 20260129-5170.

Comment Date: 5 p.m. ET 2/19/26.

Docket Numbers: FC26-4-000.

Applicants: Civitella Energy S.r.l.,Andromeda Energy S.r.l.

Description: Civitella Energy S.r.l. et al. submit Notice of Self-Certification of Foreign Utility Company Status.

Filed Date: 1/29/26.

Accession Number: 20260129-5176.

Comment Date: 5 p.m. ET 2/19/26.

Docket Numbers: FC26-5-000.

Applicants: Hexa Korea Companies.

Description: Hexa Korea Companies submit Notice of Self-Certification of Foreign Utility Company Status.

Filed Date: 1/29/26.

Accession Number: 20260129-5182.

Comment Date: 5 p.m. ET 2/19/26.

Docket Numbers: FC26-6-000.

Applicants: Hexa Philippines Companies.

Description: Hexa Philippines Companies submit Notice of Self-Certification of Foreign Utility Company Status.

Filed Date: 1/29/26.

Accession Number: 20260129-5183.

Comment Date: 5 p.m. ET 2/19/26.

Docket Numbers: FC26-7-000.

Applicants: Berde Rooftop Inc.

Description: Berde Rooftop Inc. submits Notice of Self-Certification of Foreign Utility Company Status.

Filed Date: 1/29/26.

Accession Number: 20260129-5188.

Comment Date: 5 p.m. ET 2/19/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 29, 2026.
Carlos D. Clay,
Deputy Secretary.

[FR Doc. 2026-02136 Filed 2-2-26; 8:45 am]

BILLING CODE 6717-01-P